SECURITIES AND EXCHANGE COMMISSION

[Release No. 34-68488; File No. SR-NYSEArca-2012-142]

Self-Regulatory Organizations; NYSE Arca, Inc.; Notice of Filing of Proposed Rule Change To List and Trade the Guggenheim Enhanced Total Return ETF Under NYSE Arca Equities Rule 8.600

December 20, 2012.

Correction

In notice document 2012-31120 appearing on pages 76326-76332 in the issue of December 27, 2012, the File No. is corrected to read as set forth above.

[FR Doc. C1-2012-31120 Filed 1-8-13; 8:45 am]

BILLING CODE 1505-01-D